DEPARTMENT OF AGRICULTURE

Forest Service

36 CFR Part 242

DEPARTMENT OF THE INTERIOR

Fish and Wildlife Service

50 CFR Part 100

[Docket No. FWS-R7-SM-2021-0039; FXFR13350700640-245-FF07J00000]

RIN 1018-BF19

Subsistence Management Regulations for Public Lands in Alaska—2023-24 and 2024-25 Subsistence Taking of Wildlife and Fish and Shellfish Regulations

AGENCY: Forest Service, Agriculture; Fish and Wildlife Service, Interior.

ACTION: Final rule.

SUMMARY: This final rule revises regulations for seasons, harvest limits, methods, and means related to taking of fish for subsistence uses in Alaska during the 2023-2024 and 2024-2025 regulatory years and the customary and traditional use determinations for fish and shellfish. This rule also revises the regulations for subsistence taking of wildlife, in response to deferred proposals from the 2022-2024 wildlife regulations cycle. The Federal Subsistence Management Program provides a preference for customary and traditional uses by rural Alaska residents of wild, renewable resources on Federal public lands and waters in Alaska.

DATES: This rule is effective February 29, 2024.

ADDRESSES: Federal Subsistence Board meeting transcripts are available for review at the Office of Subsistence Management, 1011 East Tudor Road, Mail Stop 121, Anchorage, AK 99503; on the Office of Subsistence Management website (https://www.doi.gov/subsistence); and at https://www.regulations.gov in Docket No. FWS-R7-SM-2021-0039. The comments received in response to the proposed rule are available at https://www.regulations.gov in Docket No. FWS-R7-SM-2021-0039.

FOR FURTHER INFORMATION CONTACT: Chair, Federal Subsistence Board, c/o U.S. Fish and Wildlife Service, Attention: Amee Howard, Office of Subsistence Management; (907) 786-3888 or subsistence@fws.gov. For questions specific to National Forest System lands, contact Gregory Risdahl, Subsistence Program Leader, U.S. Department of Agriculture (USDA), Forest Service, Alaska Region; (907) 302-7354 or gregory.risdahl@usda.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under title VIII of the Alaska National Interest Lands Conservation Act (ANILCA) (16 U.S.C. 3111-3126), the Secretary of the Interior and the Secretary of Agriculture (Secretaries) jointly implement the Federal Subsistence Management Program. The Program provides a preference for take of fish and wildlife resources for subsistence uses on Federal public lands and waters in Alaska. The term “subsistence uses” means the customary and traditional uses by rural Alaska residents of wild, renewable resources for direct personal or family consumption as food, shelter, fuel, clothing, tools, or transportation or for other specified purposes. The Secretaries published temporary regulations to carry out the Program in the Federal Register on June 29, 1990 (55 FR 27114) and published final regulations in the Federal Register on May 29, 1992 (57 FR 22940).

The Program managers have subsequently amended these regulations many times. Because this program is a joint effort between Interior and Agriculture, these regulations are located in two titles of the Code of Federal Regulations (CFR): title 36, “Parks, Forests, and Public Property,” and title 50, “Wildlife and Fisheries,” at 36 CFR 242.1-242.28 and 50 CFR 100.1-100.28, respectively. Consequently, to indicate that identical changes affect regulations in both titles 36 and 50, in this document we present references to specific sections of the CFR as shown in the following example: § __.24.

The Program regulations contain subparts as follows: Subpart A, General Provisions; Subpart B, Program Structure; Subpart C, Board Determinations; and Subpart D, Subsistence Taking of Fish and Wildlife. Consistent with subpart B of these regulations, the Secretaries established a Federal Subsistence Board to administer the Federal Subsistence Management Program. The Board comprises:

• A Chair appointed by the Secretary of the Interior with concurrence of the Secretary of Agriculture;

• The Alaska Regional Director, U.S. Fish and Wildlife Service (FWS);

• The Alaska Regional Director, National Park Service (NPS);

• The Alaska State Director, Bureau of Land Management (BLM);

• The Alaska Regional Director, Bureau of Indian Affairs (BIA);

• The Alaska Regional Forester, USDA Forest Service (USDA-FS); and

• Two public members appointed by the Secretary of the Interior with concurrence of the Secretary of Agriculture.

Through the Board, these agencies participate in the development of regulations for subparts C and D, which, among other things, set forth program eligibility, including determinations of which areas or communities in Alaska are nonrural, and specific harvest seasons and limits. The Board receives analytical and administrative assistance from the Interagency Staff Committee, which comprises senior technical experts from FWS, NPS, BLM, BIA, and USDA-FS (per § __.10(d)(7)).

In administering the Program, the Secretaries divided Alaska into 10 subsistence resource regions, each of which is represented by a Federal Subsistence Regional Advisory Council (Council). The Councils provide a forum for rural residents with personal knowledge of local conditions and resource requirements to have a meaningful role in the subsistence management of fish and wildlife on Federal public lands in Alaska. The Council members represent varied geographical, cultural, and user interests within each region.

The Board conducts rulemaking for the Program on a biennial schedule with the process of revising the fish and shellfish regulations and the process for revising the wildlife regulations occurring during opposite years. The Board addresses “customary and traditional use” determinations during the applicable biennial cycle. The regulations at § __.4 define “customary and traditional use” as “a long-established, consistent pattern of use, incorporating beliefs and customs which have been transmitted from generation to generation.” Since establishment of the Program regulations in 1992, the Board has made a number of customary and traditional use determinations at the request of affected subsistence users. These determinations have resulted in revisions to the regulations at § __.24. The modifications for fish and shellfish, along with some administrative corrections, were published in the Federal Register as follows:

Table 1—Modifications to § __.24, Customary and Traditional Use Determinations
Federal Register citation | Date of publication | Rule made changes to the following provisions of __.24
59 FR 27462 | May 27, 1994 | Wildlife and Fish/Shellfish.
59 FR 51855 | October 13, 1994 | Wildlife and Fish/Shellfish.
60 FR 10317 | February 24, 1995 | Wildlife and Fish/Shellfish.
61 FR 39698 | July 30, 1996 | Wildlife and Fish/Shellfish.
62 FR 29016 | May 29, 1997 | Wildlife and Fish/Shellfish.
63 FR 35332 | June 29, 1998 | Wildlife and Fish/Shellfish.
63 FR 46148 | August 28, 1998 | Wildlife and Fish/Shellfish.
64 FR 1276 | January 8, 1999 | Fish/Shellfish.
66 FR 10142 | February 13, 2001 | Fish/Shellfish.
67 FR 5890 | February 7, 2002 | Fish/Shellfish.
68 FR 7276 | February 12, 2003 | Fish/Shellfish.
69 FR 5018 | February 3, 2004 | Fish/Shellfish.
70 FR 13377 | March 21, 2005 | Fish/Shellfish.
71 FR 15569 | March 29, 2006 | Fish/Shellfish.
72 FR 12676 | March 16, 2007 | Fish/Shellfish.
72 FR 73426 | December 27, 2007 | Wildlife/Fish.
74 FR 14049 | March 30, 2009 | Fish/Shellfish.
76 FR 12564 | March 8, 2011 | Fish/Shellfish.
77 FR 35482 | June 13, 2012 | Wildlife.
79 FR 35232 | June 19, 2014 | Wildlife.
81 FR 52528 | August 8, 2016 | Wildlife.
83 FR 3079 | January 23, 2018 | Fish.
83 FR 50758 | October 9, 2018 | Wildlife.
84 FR 39744 | August 12, 2019 | Fish.
85 FR 74796 | November 23, 2020 | Wildlife.
87 FR 44846 | July 26, 2022 | Wildlife.

Current Rulemaking Action

The Departments published a proposed rule, Subsistence Management Regulations for Public Lands in Alaska—2023-24 and 2024-25 Subsistence Taking of Fish Regulations, on March 17, 2022 (87 FR 15155), to amend the fish and shellfish sections of subparts C and D of 36 CFR part 242 and 50 CFR part 100. As stated in the proposed rule, during the rulemaking cycle for the fish and shellfish regulations, the Board also accepts proposals for nonrural determinations.

The proposed rule opened a comment period, which closed on May 16, 2022. The Departments advertised the proposed rule on the Program's web page and by mail, email, social media, radio, and newspaper. During that period, the Councils met and, in addition to other Council business, received suggestions for proposals from the public. The Board received a total of 10 proposals for changes to the subpart C regulations (which pertain to Board determinations for subsistence resource regions, rural determinations, and customary and traditional use determinations). Nine of those proposals were for changes to customary and traditional use determinations, and one was for a change to nonrural determinations. Nine proposals were submitted for changes to the subpart D regulations (which provide specific provisions regarding the taking of fish and wildlife). Two of those proposals were later withdrawn by their proponents. In addition, 19 fisheries closure reviews were presented for comment as required by Board policy that specifies a review of each closure at least every 4 years. Seven of the closure reviews were deferred from the previous fish and shellfish proposed rule (85 FR 9430, February 19, 2020).

The public submitted 20 comments, which are available for review at https://www.regulations.gov in Docket No. FWS-R7-SM-2021-0039. We reviewed and considered all public comments received on the proposed rule. Most of the comments were proposal submissions in response to the request for proposals outlined in the proposed rule. Most other comments reflected the same concerns or issues that were also included in those proposals that were presented to the Board and were, therefore, considered during Board deliberations on the proposals. The remaining public comments pertained to issues outside the scope of this rulemaking action.

After the comment period closed, the Board prepared a booklet describing the proposals and distributed it to the public. The proposals were also published on the Program's website. The public then had 30 days, until July 27, 2022, to comment on the proposed regulatory changes. The 10 Councils met again, received public comments, and formulated their recommendations to the Board on proposals for their respective regions. Therefore, the public received extensive opportunity to review and comment on all changes.

The Councils had a substantial role in reviewing the proposed rule and making recommendations for the final rule. Moreover, a Council Chair, or a designated representative, presented each Council's recommendations at the Board's public meeting of January 31-February 3, 2023.

Summary of Board Actions on Proposals and Closure Reviews

The Board's actions on each fisheries proposal and closure review are listed in table 2 below. When making decisions, the Board may use, but is not limited to, the following guidelines for consideration of whether a proposal:

• provides a subsistence priority on public lands;

• is supported by substantial scientific and traditional ecological knowledge (TEK) evidence;

• recognizes principles of fish and wildlife conservation;

• provides opportunity; and

• would not be detrimental or place undue burden on rural Alaskan subsistence users.

Consensus agenda: The consensus agenda is made up of proposals and closure reviews for which there is agreement among the affected Councils, a majority of the Interagency Staff Committee members, and the Alaska Department of Fish and Game (ADF&G) concerning a proposed regulatory action. Anyone may request that the Board remove a proposal or a closure review from the consensus agenda and place it on the non-consensus agenda. Proposals or closure reviews taken off the consensus agenda follow the Board process for non-consensus items and are deliberated and voted on individually. Of the 16 fishery proposals and 19 fishery closure reviews, 23 were on the Board's non-consensus agenda, and 12 were on the consensus agenda. The Board votes en masse on the consensus agenda after deliberation and action on all other proposals.

Of the proposals on the consensus agenda, the Board adopted three, rejected two, and took no action on two. Of the closure reviews on the consensus agenda, the Board retained the status quo on four and rescinded one. Analysis and justification for the action taken on each proposal on the consensus agenda can be found in the Board meeting book and transcripts. Documents are available for review at the Office of Subsistence Management (OSM), 1011 East Tudor Road, Mail Stop 121, Anchorage, AK 99503; at https://www.regulations.gov in Docket No. FWS-R7-SM-2021-0039; or on the OSM website (https://www.doi.gov/subsistence).

Non-consensus agenda: Of the proposals on the non-consensus agenda, the Board adopted two, adopted two with modification, rejected four, and took no action on one. Of the closure reviews on the non-consensus agenda, the Board rescinded seven, modified two, retained the status quo on two, deferred one, and took no action on two. Because all Board actions on non-consensus proposals and closure reviews aligned with recommendations of the affected Council(s), Board justifications for these actions can be found by reading the Council recommendation(s) in the respective proposal analysis and reviewing the Board meeting transcripts. Documents are available for review at the Office of Subsistence Management, 1011 East Tudor Road, Mail Stop 121, Anchorage, AK 99503; at https://www.regulations.gov in Docket No. FWS-R7-SM-2021-0039; or on the OSM website (https://www.doi.gov/subsistence).

Deferred proposals: Of the four wildlife proposals that were deferred from the April 12-15, 2022, Board meeting (see 87 FR 44846, July 26, 2022; Subsistence Management Regulations for Public Lands in Alaska—2022-23 and 2023-24 Subsistence Taking of Wildlife Regulations), the Board rejected three Unit 4 deer proposals that were supported by the affected Council and adopted with modification a wolf and wolverine trapping proposal that was supported by the affected Councils for Units 9 and 17.

Nonrural proposal: The Board determined that the Ketchikan nonrural proposal met the threshold requirements for full analysis. Office of Subsistence Management staff are preparing a full analysis and holding public meetings in the affected communities. The Board will make a final decision at their 2025 fish and shellfish regulatory meeting.

Table 2—Federal Subsistence Board Actions on Proposed Revisions to the Regulations for the Federal Subsistence Management Program
[C&T = customary and traditional use]
Proposal | Species or issue | Fisheries management area | General description | Federal Subsistence Board action
FP23-01 | All fish other than salmon; grayling | Yukon-Northern Area | Rescind the Jim River drainage closure and modify to allow for the use of rod and reel only; establish a grayling harvest limit | Adopt.
FP23-02 | Salmon | Yukon-Northern Area | C&T use determination Chevak, Hooper Bay, and Scammon Bay | Adopt.
FP23-05a | Salmon | Kodiak Area | C&T revision | Reject.
FP23-05b | Salmon | Kodiak Area | Revisions to area descriptors | Reject.
FP23-06a | Salmon | Kodiak Area | Rescind closure to subsistence salmon fishing in Women's Bay Federal marine waters and modify to allow use of rod and reel and match State sport fishing limits | Adopt.
FP23-06b | Salmon | Kodiak Area | Rescind closure to subsistence salmon fishing in Buskin River Federal marine waters and modify to allow use of rod and reel and match State sport fishing limits | Adopt with modification to allow rod and reel and remove reference to season dates and harvest limits shall be the same as taking fish under State of Alaska sport fishing regulations.
FP2307 | Chinook salmon | Cook Inlet Area | Match State sport fishing size limits and gear restrictions for Kenai River Chinook salmon | Reject.
FP23-08 | All fish | Cook Inlet Area | C&T for residents of Moose Pass | Adopt.
FP23-09 | All fish | Cook Inlet Area | C&T for residents of Moose Pass | Take no action based on action on FP23-08.
FP23-12 | All fish | Cook Inlet Area | C&T for residents of Moose Pass | Take no action based on action on FP23-08.
FP23-14 | Salmon | Prince William Sound Area | C&T for residents of Richardson Highway | Reject.
FP23-15 | Salmon | Prince William Sound Area | C&T for residents of Alaska Highway (from the Canadian border to Dot Lake) | Reject.
FP23-16 | Salmon | Prince William Sound Area | C&T for residents of Alaska Highway (from the Canadian border to Dot Lake) | Take no action based on action on FP23-15.
FP23-19 | Salmon | Prince William Sound Area | Rescind lower Copper River salmon fishery | Reject.
FP23-20 | All shellfish | Southeastern Alaska Area | C&T use determination for shellfish in the Southeastern and Yakutat Areas | Adopt.
FP23-21 | Sockeye salmon | Southeastern Alaska Area | Close Kah Sheets River and Lake to the harvest of sockeye salmon except by federally qualified subsistence users | Adopt as modified by OSM to close Kah Sheets Creek to non-federally qualified subsistence users from July 1 to July 31.
FCR23-02 | All fish | Yukon-Northern Area | Review Kanuti River closure to subsistence fishing upstream from a point 5 miles downstream of the State highway crossing | Adopted and modified closure to non-salmon species only.
FCR23-03 | All fish | Yukon-Northern Area | Review closure to subsistence fishing in the Bonanza Creek drainage | Adopted and modified closure by rescinding to non-salmon species only.
FCR23-05 | All fish | Yukon-Northern Area | Review closure to subsistence fishing in the Delta River | Deferred to next fisheries regulatory meeting.
FCR21-08 | Salmon | Aleutian Islands Area | Review closure to subsistence salmon fishing in the waters of Unalaska Lake, its tributaries and outlet streams | Retain status quo.
FCR21-09 | Salmon | Aleutian Islands Area | Review closure to subsistence salmon fishing in the waters of Summers and Morris Lakes and their tributaries and outlet streams | Retain status quo.
FCR21-11 | Salmon | Aleutian Islands Area | Review closure to subsistence salmon fishing in the waters of McLees Lake and its tributaries and outlet streams | Retain status quo.
FCR23-11 | Salmon | Aleutian Islands Area | Review closure to subsistence salmon fishing in all streams supporting anadromous fish runs that flow into Unalaska Bay south of a line from the northern tip of Cape Cheerful to the northern tip of Kalekta Point | Retain status quo.
FCR23-12 | Salmon | Aleutian Islands Area | Review closure to subsistence salmon fishing in all Federal freshwaters on Adak and Kagalaska Islands in the Adak District | Rescind.
FCR21-13 | Salmon | Alaska Peninsula Area | Review closure to subsistence salmon fishing in the waters of Russel Creek and Nurse Lagoon and within 500 yards outside of the mouth of Nurse Lagoon | Rescind.
FCR23-13 | Salmon | Alaska Peninsula Area | Review closure to subsistence salmon fishing in Trout Creek and within 500 yards outside its mouth | Rescind.
FCR23-15 | Salmon | Kodiak Area | Review closure to subsistence salmon fishing in Women's Bay Federal marine waters | Take no action based on FP23-06a.
FCR21-16 | Salmon | Kodiak Area | Review closure to subsistence salmon fishing in Buskin River Federal marine waters | Take no action based on FP23-06b.
FCR21-18 | Salmon | Kodiak Area | Review closure to subsistence salmon fishing in all waters of Afognak Bay north and west of a line from the tip of Last Point to the tip of River Mouth Point | Rescind.
FCR21-19 | Salmon | Kodiak Area | Review closure to subsistence salmon fishing in all freshwater systems of Afognak Island | Rescind.
FCR23-19 | Salmon | Kodiak Area | Review closure to subsistence salmon fishing in all Selief Bay Creek waters closed to commercial salmon fishing within 100 yards of the terminus of the creek | Rescind.
FRC23-21 | King crab | Kodiak Area | Review closure to king crab fishing by non-federally qualified users in all Federal marine waters around Kodiak and Afognak Islands | Retain status quo.
FCR23-22 | Salmon | Kodiak Area | Review closure to subsistence salmon fishing in waters 500 yards seaward of the mouth of Little Kitoi Creek | Rescind.
FCR23-23 | Salmon | Southeastern Alaska Area | Review closure to subsistence salmon fishing in the Taku River | Rescind.
FCR23-24 | Sockeye salmon | Southeastern Alaska Area | Review closure to subsistence salmon fishing in Neva Lake, Neva Creek, and South Creek | Retain status quo.

The final regulations in this document reflect Board review and consideration of Regional Advisory Council recommendations, Tribal and Alaska Native corporation consultations, and public and ADF&G comments. The proposals indicated above in table 2 as “adopted” are reflected in the rule portion of this document as revisions to the Program regulations. Because this rule concerns public lands managed by a bureau or bureaus in both the Departments of Agriculture and the Interior, identical text will be incorporated into 36 CFR part 242 and 50 CFR part 100.

Conformance With Statutory and Regulatory Authorities

Administrative Procedure Act Compliance

The Board has provided extensive opportunity for public input and involvement in compliance with Administrative Procedure Act requirements, including publishing a proposed rule in the Federal Register, participation in multiple Council meetings, additional public review and comment on all proposals for regulatory change, and opportunity for additional public comment during the Board meeting prior to deliberation. Additionally, an administrative mechanism exists (and has been used by the public) to request reconsideration of the Board's decision on any proposal for regulatory change (36 CFR 242.20 and 50 CFR 100.20). Therefore, the Board believes that sufficient public notice and opportunity for involvement have been given to affected persons regarding Board decisions.

In the more than 30 years that the Program has been operating, no benefit to the public has been demonstrated by delaying the effective date of the subsistence regulations. A lapse in regulatory control could affect the continued viability of fish or wildlife populations and future subsistence opportunities for rural Alaskans and would generally fail to serve the overall public interest. Therefore, the Board finds good cause pursuant to 5 U.S.C. 553(d)(3) to make this rule effective upon the date set forth in DATES to ensure continued operation of the Subsistence Management Program.

National Environmental Policy Act Compliance

A draft environmental impact statement that described four alternatives for developing a Federal Subsistence Management Program was distributed for public comment on October 7, 1991. The final environmental impact statement (FEIS) was published on February 28, 1992. The Record of Decision (ROD) on Subsistence Management for Federal Public Lands in Alaska was signed April 6, 1992. The selected alternative in the FEIS (alternative IV) defined the administrative framework of an annual regulatory cycle for subsistence regulations.

A 1997 environmental assessment dealt with the expansion of Federal jurisdiction over fisheries and is available at the office listed under FOR FURTHER INFORMATION CONTACT. The Secretary of the Interior, with concurrence of the Secretary of Agriculture, determined that expansion of Federal jurisdiction does not constitute a major Federal action significantly affecting the human environment and, therefore, signed a Finding of No Significant Impact.

Section 810 of ANILCA

An ANILCA section 810 analysis was completed as part of the FEIS process on the Federal Subsistence Management Program. The intent of all Federal subsistence regulations is to accord subsistence uses of fish and wildlife on public lands a priority over the taking of fish and wildlife on such lands for other purposes, unless restriction is necessary to conserve healthy fish and wildlife populations. The final section 810 analysis determination appeared in the April 6, 1992, ROD and concluded that the Program, under Alternative IV with an annual process for setting subsistence regulations, may have some local impacts on subsistence uses, but will not likely restrict subsistence uses significantly.

During the subsequent environmental assessment process for extending fisheries jurisdiction, an evaluation of the effects of this rule was conducted in accordance with section 810. That evaluation also supported the Secretaries' determination that the rule will not reach the “may significantly restrict” threshold that would require notice and hearings under ANILCA section 810(a).

Paperwork Reduction Act of 1995 (PRA)

This rule does not contain any new collections of information that require Office of Management and Budget (OMB) approval under the PRA (44 U.S.C. 3501 et seq.). OMB has reviewed and approved the collections of information associated with the subsistence regulations at 36 CFR part 242 and 50 CFR part 100 and assigned OMB Control Number 1018-0075. We may not conduct or sponsor and you are not required to respond to a collection of information unless it displays a currently valid OMB control number.

Regulatory Planning and Review (Executive Orders 12866, 13563, and 14094)

Executive Order 14094 reaffirms the principles of E.O. 12866 and E.O. 13563 and states that regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law. E.O. 13563 emphasizes further that regulations must be based on the best available science and that the rulemaking process must allow for public participation and an open exchange of ideas. We have developed this final rule in a manner consistent with these requirements.

E.O. 12866, as reaffirmed by E.O. 13563 and E.O. 14094, provides that the Office of Information and Regulatory Affairs (OIRA) in the Office of Management and Budget (OMB) will review all significant rules. OIRA has determined that this rule is not significant.

Regulatory Flexibility Act

The Regulatory Flexibility Act of 1980 (5 U.S.C. 601 et seq.) requires preparation of flexibility analyses for rules that will have a significant effect on a substantial number of small entities, which include small businesses, organizations, or governmental jurisdictions. In general, the resources to be harvested under this rule are already being harvested and consumed by the local harvester and do not result in an additional dollar benefit to the economy. However, we estimate that two million pounds of meat are harvested by subsistence users annually and, if given an estimated dollar value of $3.00 per pound, this amount would equate to about $6 million in food value Statewide. Based upon the amounts and values cited above, the Departments certify that this rulemaking will not have a significant economic effect on a substantial number of small entities within the meaning of the Regulatory Flexibility Act.

Congressional Review Act

Under the Congressional Review Act (5 U.S.C. 804(2)), this rule is not a major rule. It does not have an effect on the economy of $100 million or more, will not cause a major increase in costs or prices for consumers, and does not have significant adverse effects on competition, employment, investment, productivity, innovation, or the ability of U.S.-based enterprises to compete with foreign-based enterprises.

Executive Order 12630

Title VIII of ANILCA requires the Secretaries to administer a subsistence priority on public lands. The scope of the Program is limited by definition to certain public lands. Accordingly, these regulations have no potential takings of private property implications as defined by Executive Order 12630.

Unfunded Mandates Reform Act

The Secretaries have determined and certify pursuant to the Unfunded Mandates Reform Act, 2 U.S.C. 1502 et seq., that this rulemaking will not impose a cost of $100 million or more in any given year on local or State governments or private entities. The implementation of this rule is by Federal agencies, and there is no cost imposed on any State or local entities or Tribal governments.

Executive Order 12988

The Secretaries have determined that these regulations meet the applicable standards provided in sections 3(a) and 3(b)(2) of Executive Order 12988, regarding civil justice reform.

Executive Order 13132

In accordance with Executive Order 13132, the rule does not have sufficient federalism implications to warrant the preparation of a federalism summary impact statement. Title VIII of ANILCA precludes the State from exercising subsistence management authority over fish and wildlife resources on Federal lands unless it meets certain requirements.

Executive Order 13175

Title VIII of ANILCA, does not provide specific rights to Tribes for the subsistence taking of wildlife, fish, and shellfish. However, the Board provided Federally recognized Tribes and Alaska Native corporations opportunities to consult on this rule. Consultation with Alaska Native corporations are based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian Tribes under Executive Order No. 13175.”

The Secretaries, through the Board, provided a variety of opportunities for consultation: commenting on proposed changes to the existing rule; engaging in dialogue at the Council meetings; engaging in dialogue at the Board's meetings; and providing input in person, by mail, email, or phone at any time during the rulemaking process.

On January 31, 2023, the Board provided federally recognized Tribes and Alaska Native Corporations a specific opportunity to consult on this rule prior to the start of its public regulatory meeting. Federally recognized Tribes and Alaska Native Corporations were notified by mail and telephone and were given the opportunity to attend via teleconference.

Executive Order 13211

This Executive order requires agencies to prepare statements of energy effects when undertaking certain actions. However, this rule is not a significant regulatory action under E.O. 13211, affecting energy supply, distribution, or use, and no statement of energy effects is required.

Drafting Information

Justin Koller drafted these regulations under the guidance of Amee Howard of the Office of Subsistence Management, Alaska Regional Office, U.S. Fish and Wildlife Service, Anchorage, Alaska. Additional assistance was provided by

• Paul McKee, Alaska State Office, Bureau of Land Management;

• Eva Patton, Alaska Regional Office, National Park Service;

• Dr. Glenn Chen, Alaska Regional Office, Bureau of Indian Affairs;

• Jill Klein, Alaska Regional Office, U.S. Fish and Wildlife Service; and

• Gregory Risdahl, Alaska Regional Office, USDA Forest Service.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

Regulation Promulgation

For the reasons set out in the preamble, the Federal Subsistence Board amends title 36, part 242, and title 50, part 100, of the Code of Federal Regulations, as set forth below.

PART __—SUBSISTENCE MANAGEMENT REGULATIONS FOR PUBLIC LANDS IN ALASKA

1. The authority citation for both 36 CFR part 242 and 50 CFR part 100 continues to read as follows:

Authority: 16 U.S.C. 3, 472, 551, 668dd, 3101-3126; 18 U.S.C. 3551-3586; 43 U.S.C. 1733.

Subpart C—Board Determinations

2. Amend § __.24 in table 2 to paragraph (a)(2) by revising the entries for “YUKON-NORTHERN AREA” and “COOK INLET AREA” and revising table 3 to paragraph (a)(3) to read as follows:

§ __.24

(a) * * *

(2) * * *

Table 2 to Paragraph (a)(2)
Area | Species | Determination
* * * * * * *
YUKON-NORTHERN AREA:
Yukon River drainage | Salmon | Residents of the Yukon River drainage and the communities of Chevak, Hooper Bay, Scammon Bay, and Stebbins.
Yukon River drainage | Freshwater fish (other than salmon) | Residents of the Yukon-Northern Area.
Remainder of the Yukon-Northern Area | All fish | Residents of the Yukon-Northern Area, excluding the residents of the Yukon River drainage and excluding those domiciled in Unit 26B.
Tanana River drainage contained within the Tetlin National Wildlife Refuge and the Wrangell-St. Elias National Park and Preserve | Freshwater fish (other than salmon) | Residents of the Yukon-Northern Area and residents of Chistochina, Mentasta Lake, Slana, and all residents living between Mentasta Lake and Chistochina.
* * * * * * *
COOK INLET AREA:
Kenai Peninsula District—Waters north of and including the Kenai River drainage within the Kenai National Wildlife Refuge and the Chugach National Forest | All fish | Residents of the communities of Cooper Landing, Hope, Moose Pass, and Ninilchik.
Waters within the Kasilof River drainage within the Kenai National Wildlife Refuge | All fish | Residents of the community of Ninilchik.
Waters within Lake Clark National Park draining into and including that portion of Tuxedni Bay within the park | Salmon | Residents of the Tuxedni Bay Area.
Cook Inlet Area | Fish other than salmon, Dolly Varden, trout, char, grayling, and burbot | Residents of the Cook Inlet Area.
Remainder of the Cook Inlet Area | Salmon, Dolly Varden, trout, char, grayling, and burbot | All rural residents.
* * * * * * *

(3) * * *

Table 3 to Paragraph (a)(3)
Area | Species | Determination
Bering Sea Area | All shellfish | Residents of the Bering Sea Area.
Alaska Peninsula-Aleutian Islands Area | Shrimp; Dungeness and Tanner crab | Residents of the Alaska Peninsula-Aleutian Islands Area.
Kodiak Area | Shrimp; Dungeness and Tanner crab | Residents of the Kodiak Area.
Kodiak Area, except for the Semidi Island, the North Mainland, and the South Mainland Sections | King crab | Residents of the Kodiak Island Borough, except those residents on the Kodiak Coast Guard base.
Cook Inlet Area:
Federal waters in the Tuxedni Bay Area within the boundaries of Lake Clark National Park | Shellfish | Residents of Tuxedni Bay, Chisik Island, and Tyonek.
Prince William Sound Area | Shrimp; clams; Dungeness, king, and Tanner crab | Residents of the Prince William Sound Area.
Southeastern Alaska—Yakutat Area | All shellfish | Residents of Southeastern Alaska and Yakutat Fishery Management Areas.

Subpart D—Subsistence Taking of Fish and Wildlife

3. Amend § __.26 by revising paragraphs (n)(9) and (17) to read as follows:

§ __.26 Subsistence taking of wildlife.

* * * * *

(n) * * *

(9) Unit 9.

(i) Unit 9 consists of the Alaska Peninsula and adjacent islands, including drainages east of False Pass, Pacific Ocean drainages west of and excluding the Redoubt Creek drainage; drainages into the south side of Bristol Bay, drainages into the north side of Bristol Bay east of Etolin Point, and including the Sanak and Shumagin Islands:

(A) Unit 9A consists of that portion of Unit 9 draining into Shelikof Strait and Cook Inlet between the southern boundary of Unit 16 (Redoubt Creek) and the northern boundary of Katmai National Park and Preserve.

(B) Unit 9B consists of the Kvichak River drainage except those lands drained by the Kvichak River/Bay between the Alagnak River drainage and the Naknek River drainage.

(C) Unit 9C consists of the Alagnak (Branch) River drainage, the Naknek River drainage, lands drained by the Kvichak River/Bay between the Alagnak River drainage and the Naknek River drainage, and all land and water within Katmai National Park and Preserve.

(D) Unit 9D consists of all Alaska Peninsula drainages west of a line from the southernmost head of Port Moller to the head of American Bay, including the Shumagin Islands and other islands of Unit 9 west of the Shumagin Islands.

(E) Unit 9E consists of the remainder of Unit 9.

(ii) In the following areas, the taking of wildlife for subsistence uses is prohibited or restricted on public lands:

(A) You may not take wildlife for subsistence uses in Katmai National Park; and

(B) You may not use motorized vehicles, except aircraft, boats, or snowmobiles used for hunting and transporting a hunter or harvested animal parts from Aug. 1 through Nov. 30 in the Naknek Controlled Use Area, which includes all of Unit 9C within the Naknek River drainage upstream from and including the King Salmon Creek drainage; however, you may use a motorized vehicle on the Naknek-King Salmon, Lake Camp, and Rapids Camp roads and on the King Salmon Creek trail, and on frozen surfaces of the Naknek River and Big Creek.

(iii) Unit-specific regulations:

(A) If you have a trapping license, you may use a firearm to take beaver in Unit 9B from April 1 through May 31 and in the remainder of Unit 9 from April 1 through 30.

(B) You may hunt brown bear by State registration permit in lieu of a resident tag in Unit 9B, except that portion within the Lake Clark National Park and Preserve, if you have obtained a State registration permit prior to hunting.

(C) In Unit 9B, Lake Clark National Park and Preserve, residents of Iliamna, Newhalen, Nondalton, Pedro Bay, Port Alsworth, and that portion of the park resident zone in Unit 9B and 13.440 permit holders may hunt brown bear by Federal registration permit in lieu of a resident tag. The season will be closed when 4 females or 10 bears have been taken, whichever occurs first. The permits will be issued and closure announcements made by the Superintendent Lake Clark National Park and Preserve.

(D) Residents of Iliamna, Newhalen, Nondalton, Pedro Bay, and Port Alsworth may take up to a total of 10 bull moose in Unit 9B for ceremonial purposes, under the terms of a Federal registration permit from July 1 through June 30. Permits will be issued to individuals only at the request of a local organization. This 10-moose limit is not cumulative with that permitted for potlatches by the State.

(E) For Units 9C and 9E only, a federally qualified subsistence user (recipient) of Units 9C and 9E may designate another federally qualified subsistence user of Units 9C and 9E to take bull caribou on his or her behalf. The designated hunter must obtain a designated hunter permit and must return a completed harvest report and turn over all meat to the recipient. There is no restriction on the number of possession limits the designated hunter may have in his/her possession at any one time.

(F) For Unit 9D, a federally qualified subsistence user (recipient) may designate another federally qualified subsistence user to take caribou on his or her behalf. The designated hunter must obtain a designated hunter permit and must return a completed harvest report. The designated hunter may hunt for any number of recipients but may have no more than four harvest limits in his/her possession at any one time.

(G) The communities of False Pass, King Cove, Cold Bay, Sand Point, and Nelson Lagoon annually may each take, from October 1 through December 31 or May 10 through 25, one brown bear for ceremonial purposes, under the terms of a Federal registration permit. A permit will be issued to an individual only at the request of a local organization. The brown bear may be taken from either Unit 9D or Unit 10 (Unimak Island) only.

(H) You may hunt brown bear in Unit 9E with a Federal registration permit in lieu of a State locking tag if you have obtained a Federal registration permit prior to hunting.

(I) In Units 9B and 9C, a snowmachine may be used to approach and pursue a wolf or wolverine provided the snowmachine does not contact a live animal.

Table 9 to Paragraph (n)(9)
Harvest limits | Open season
Hunting
Black Bear: 3 bears | July 1-June 30.
Brown Bear:
Unit 9B, Lake Clark National Park and Preserve—Rural residents of Iliamna, Newhalen, Nondalton, Pedro Bay, Port Alsworth, residents of that portion of the park resident zone in Unit 9B; and 13.440 permit holders—1 bear by Federal registration permit only | July 1-June 30.
The season will be closed by the Lake Clark National Park and Preserve Superintendent when 4 females or 10 bear have been taken, whichever occurs first
Unit 9B, remainder—1 bear by State registration permit only | Sep. 1-May 31.
Unit 9C—1 bear by Federal registration permit only | Oct. 1-May 31.
The season will be closed by the Katmai National Park and Preserve Superintendent in consultation with BLM and FWS land managers and ADF&G, when 6 females or 10 bear have been taken, whichever occurs first
Unit 9E—1 bear by Federal registration permit | Sep. 25-Dec. 31; Apr. 15-May 25.
Caribou:
Unit 9A—up to 2 caribou by State registration permit | Season may be announced between Aug. 1-Mar. 15.
Unit 9B—up to 2 caribou by State registration permit | Season may be announced between Aug. 1-Mar. 31.
Unit 9C, that portion within the Alagnak River drainage—up to 2 caribou by State registration permit | Season may be announced between Aug. 1-Mar. 15.
Unit 9C, that portion draining into the Naknek River from the north, and Graveyard Creek and Coffee Creek—up to 2 caribou by State registration permit | Season may be announced between Aug. 1-Mar. 15.
Unit 9C, remainder—1 bull by Federal registration permit or State permit. Federal public lands are closed to the taking of caribou except by residents of Unit 9C and Egegik | May be announced.
Unit 9D—1-4 caribou by Federal registration permit only | Aug. 1-Sep. 30; Nov. 15-Mar. 31.
Unit 9E—1 bull by Federal registration permit or State permit. Federal public lands are closed to the taking of caribou except by residents of Unit 9E, Nelson Lagoon, and Sand Point | May be announced.
Sheep:
Unit 9B, that portion within Lake Clark National Park and Preserve—1 ram with ¾ curl or larger horn by Federal registration permit only. By announcement of the Lake Clark National Park and Preserve Superintendent, the summer/fall season will be closed when up to 5 sheep are taken and the winter season will be closed when up to 2 sheep are taken | July 15-Oct. 15; Jan. 1-Apr. 1.
Unit 9B, remainder—1 ram with ⅞ curl or larger horn by Federal registration permit only | Aug. 10-Oct. 10.
Unit 9, remainder—1 ram with ⅞ curl or larger horn | Aug. 10-Sep. 20.
Moose:
Unit 9A—1 bull by State registration permit | Sep. 1-15.
Unit 9B—1 bull by State registration permit | Sep. 1-20; Dec. 1-Jan. 15.
Unit 9C, that portion draining into the Naknek River from the north—1 bull by State registration permit | Sep. 1-20; Dec. 1-31.
Unit 9C, that portion draining into the Naknek River from the south—1 bull by State registration permit. Public lands are closed during December for the hunting of moose, except by federally qualified subsistence users hunting under these regulations | Aug. 20-Sep. 20; Dec. 1-31.
Unit 9C, remainder—1 bull by State registration permit | Sep. 1-20; Dec. 15-Jan. 15.
Unit 9D—1 bull by Federal registration permit. Federal public lands will be closed by announcement of the Izembek Refuge Manager to the harvest of moose when a total of 10 bulls have been harvested between State and Federal hunts | Dec. 15-Jan. 20.
Unit 9E—1 bull by State registration permit; however, only antlered bulls may be taken Dec. 1-Jan. 31 | Sep. 1-25; Dec. 1-Jan. 31.
Beaver: Unit 9B and 9E—2 beaver per day | Apr. 15-May 31.
Coyote: 2 coyotes | Sep. 1-Apr. 30.
Fox, Arctic (Blue and White): No limit | Dec. 1-Mar. 15.
Fox, Red (including Cross, Black and Silver Phases): 2 foxes | Sep. 1-Feb. 15.
Hare:
Snowshoe hare: No limit | July 1-June 30.
Alaska hare: 1 per day, 4 per season | Nov. 1-Mar. 31.
Lynx: 2 lynx | Nov. 10-Feb. 28.
Wolf: 10 wolves | Aug. 10-Apr. 30.
Wolverine: 1 wolverine | Sep. 1-Mar. 31.
Grouse (Spruce): 15 per day, 30 in possession | Aug. 10-Apr. 30.
Ptarmigan (Rock, Willow, and White-tailed): 10 per day, 20 in possession | Aug. 10-last day of Feb.
Trapping
Beaver:
No limit | Oct. 10-Mar. 31.
2 beaver per day; only firearms may be used | Apr. 15-May 31.
Coyote: No limit | Nov. 10-Mar. 31.
Fox, Arctic (Blue and White): No limit | Nov. 10-Feb. 28.
Fox, Red (including Cross, Black and Silver Phases): No limit | Nov. 10-Feb. 28.
Lynx: No limit | Nov. 10-Feb. 28.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

* * * * *

(17) Unit 17.

(i) Unit 17 consists of drainages into Bristol Bay and the Bering Sea between Etolin Point and Cape Newenham, and all islands between these points including Hagemeister Island and the Walrus Islands:

(A) Unit 17A consists of the drainages between Cape Newenham and Cape Constantine, and Hagemeister Island and the Walrus Islands;

(B) Unit 17B consists of the Nushagak River drainage upstream from, and including the Mulchatna River drainage and the Wood River drainage upstream from the outlet of Lake Beverley; and

(C) Unit 17C consists of the remainder of Unit 17.

(ii) In the following areas, the taking of wildlife for subsistence uses is prohibited or restricted on public lands:

(A) Except for aircraft and boats and in legal hunting camps, you may not use any motorized vehicle for hunting ungulates, bear, wolves, and wolverine, including transportation of hunters and parts of ungulates, bear, wolves, or wolverine in the Upper Mulchatna Controlled Use Area consisting of Unit 17B, from Aug. 1 through Nov. 1.

(B) [Reserved]

(iii) Unit-specific regulations:

(A) You may use bait to hunt black bear between April 15 and June 15.

(B) You may hunt brown bear by State registration permit in lieu of a resident tag if you have obtained a State registration permit prior to hunting.

(C) If you have a trapping license, you may use a firearm to take beaver in Unit 17 from April 15 through May 31. You may not take beaver with a firearm under a trapping license on National Park Service lands.

(D) In Unit 17, a snowmachine may be used to assist in the taking of a caribou, and caribou may be shot from a stationary snowmachine. “Assist in the taking of a caribou” means a snowmachine may be used to approach within 300 yards of a caribou at speeds under 15 miles per hour, in a manner that does not involve repeated approaches or that causes a caribou to run. A snowmachine may not be used to contact an animal or to pursue a fleeing caribou.

(E) In Unit 17, a snowmachine may be used to approach and pursue a wolf or wolverine provided the snowmachine does not contact a live animal.

Table 17 to Paragraph (n)(17)
Harvest limits | Open season
Hunting
Black Bear: 2 bears | Aug. 1-May 31.
Brown Bear: Unit 17—1 bear by State registration permit only | Sep. 1-May 31.
Caribou: Unit 17A, all drainages west of Right Hand Point—up to 2 caribou by State registration permit | Season may be announced between Aug. 1-Mar. 31.
Units 17A and 17C, that portion of 17A and 17C consisting of the Nushagak Peninsula south of the Igushik River, Tuklung River and Tuklung Hills, west to Tvativak Bay—up to 5 caribou by Federal registration permit | Aug. 1-Mar. 31.
Public lands are closed to the taking of caribou except by federally qualified users unless the population estimate exceeds 900 caribou
Units 17A, remainder and 17C, remainder—selected drainages; a harvest limit of up to 2 caribou by State registration permit will be determined at the time the season is announced | Season may be announced between Aug. 1 and Mar. 31.
Units 17B and 17C, that portion of 17C east of the Wood River and Wood River Lakes—up to 2 caribou by State registration permit | Season may be announced between Aug. 1-Mar. 31.
Sheep: 1 ram with full curl or larger horn | Aug. 10-Sep. 20.
Moose: Unit 17A—1 bull by State registration permit; or | Aug. 25-Sep. 25.
1 antlerless moose by State registration permit; or | Aug. 25-Sep. 25.
Unit 17A—up to 2 moose; one antlered bull by State registration permit, one antlerless moose by State registration permit | Up to a 31-day season may be announced between Dec. 1 and the last day of Feb.
Units 17B and 17C—one bull | Aug. 20-Sep. 15. Dec. 1-31.
During the period Aug. 20-Sep. 15—one bull by State registration permit; or
During the period Sep. 1-15—one bull with spike-fork or 50-inch antlers or antlers with three or more brow tines on at least one side with a State harvest ticket; or
During the period Dec. 1-31—one antlered bull by State registration permit
Coyote: 2 coyotes | Sep. 1-Apr. 30.
Fox, Arctic (Blue and White Phase): No limit | Dec. 1-Mar. 15.
Fox, Red (including Cross, Black and Silver Phases): 2 foxes | Sep. 1-Feb. 15.
Hare:
Snowshoe hare: No limit | July 1-June 30.
Alaska hare: 1 per day, 4 per season | Nov. 1-Mar. 31.
Lynx: 2 lynx | Nov. 10-Feb. 28.
Wolf: 10 wolves | Aug. 10-Apr. 30.
Wolverine: 1 wolverine | Sep. 1-Mar. 31.
Grouse (Spruce and Ruffed): 15 per day, 30 in possession | Aug. 10-Apr. 30.
Ptarmigan (Rock and Willow): 20 per day, 40 in possession | Aug. 10-Apr. 30.
Trapping
Beaver: Unit 17—No limit | Oct. 10-Mar. 31.
Unit 17—2 beaver per day. Only firearms may be used | Apr. 15-May 31.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Feb. 28.
Mink and Weasel: No limit | Nov. 10-Feb. 28.
Muskrat: 2 muskrats | Nov. 10-Feb. 28.
Otter: No limit | Nov. 10-Mar. 31.
Wolf: No limit | Nov. 10-Mar. 31.
Wolverine: No limit | Nov. 10-Feb. 28.

* * * * *

4. Amend § __.27 by revising paragraphs (e)(3), (6), (7), (9), and (13) to read as follows:

§ __.27 Subsistence taking of fish.

* * * * *

(e) * * *

(3) Yukon-Northern Area. The Yukon-Northern Area includes all waters of Alaska between the latitude of Point Romanof and the latitude of the westernmost point of the Naskonat Peninsula, including those waters draining into the Bering Sea, and all waters of Alaska north of the latitude of the westernmost tip of Point Hope and west of 141° West longitude, including those waters draining into the Arctic Ocean and the Chukchi Sea.

(i) Unless otherwise restricted in this section, you may take fish in the Yukon-Northern Area at any time. In those locations where subsistence fishing permits are required, only one subsistence fishing permit will be issued to each household per year. You may subsistence fish for salmon with rod and reel in the Yukon River drainage 24 hours per day, 7 days per week, unless rod and reel are specifically otherwise restricted in this paragraph (e)(3).

(ii) For the Yukon River drainage, Federal subsistence fishing schedules, openings, closings, and fishing methods are the same as those issued for the subsistence taking of fish under Alaska statutes (AS 16.05.060), unless superseded by a Federal special action.

(iii) In the following locations, you may take salmon during the open weekly fishing periods of the State commercial salmon fishing season and may not take them for 24 hours before the opening of the State commercial salmon fishing season:

(A) In District 4, excluding the Koyukuk River drainage;

(B) In Subdistricts 4B and 4C from June 15 through September 30, salmon may be taken from 6 p.m. Sunday until 6 p.m. Tuesday and from 6 p.m. Wednesday until 6 p.m. Friday;

(C) In District 6, excluding the Kantishna River drainage, salmon may be taken from 6 p.m. Friday until 6 p.m. Wednesday.

(iv) During any State commercial salmon fishing season closure of greater than 5 days in duration, you may not take salmon during the following periods in the following districts:

(A) In District 4, excluding the Koyukuk River drainage, salmon may not be taken from 6 p.m. Friday until 6 p.m. Sunday;

(B) In District 5, excluding the Tozitna River drainage and Subdistrict 5D, salmon may not be taken from 6 p.m. Sunday until 6 p.m. Tuesday.

(v) Except as provided in this section, and except as may be provided by the terms of a subsistence fishing permit, you may take fish other than salmon at any time.

(vi) In Districts 1, 2, 3, and Subdistrict 4A, excluding the Koyukuk and Innoko River drainages, you may not take salmon for subsistence purposes during the 24 hours immediately before the opening of the State commercial salmon fishing season.

(vii) In Districts 1, 2, and 3:

(A) After the opening of the State commercial salmon fishing season through July 15, you may not take salmon for subsistence for 18 hours immediately before, during, and for 12 hours after each State commercial salmon fishing period;

(B) After July 15, you may not take salmon for subsistence for 12 hours immediately before, during, and for 12 hours after each State commercial salmon fishing period.

(viii) In Subdistrict 4A after the opening of the State commercial salmon fishing season, you may not take salmon for subsistence for 12 hours immediately before, during, and for 12 hours after each State commercial salmon fishing period; however, you may take Chinook salmon during the State commercial fishing season, with drift gillnet gear only, from 6 p.m. Sunday until 6 p.m. Tuesday and from 6 p.m. Wednesday until 6 p.m. Friday.

(ix) You may not subsistence fish for salmon in the following drainages located north of the main Yukon River:

(A) Kanuti River upstream from a point 5 miles downstream of the State highway crossing;

(B) Bonanza Creek;

(C) Jim River including Prospect and Douglas Creeks.

(x) You may not subsistence fish in the Delta River.

(xi) In Beaver Creek downstream from the confluence of Moose Creek, a gillnet with mesh size not to exceed 3 inches stretch-measure may be used from June 15 through September 15. You may subsistence fish for all non-salmon species but may not target salmon during this time period (retention of salmon taken incidentally to non-salmon directed fisheries is allowed). From the mouth of Nome Creek downstream to the confluence of Moose Creek, only rod and reel may be used. From the mouth of Nome Creek downstream to the confluence of O'Brien Creek, the daily harvest and possession limit is 5 grayling; from the mouth of O'Brien Creek downstream to the confluence of Moose Creek, the daily harvest and possession limit is 10 grayling. The Nome Creek drainage of Beaver Creek is closed to subsistence fishing for grayling.

(xii) You may take salmon only by gillnet, beach seine, dip net, fish wheel, or rod and reel, subject to the restrictions set forth in this section.

(A) In the Yukon River drainage, you may not take salmon for subsistence fishing using gillnets with stretched mesh larger than 7.5 inches.

(B) In Subdistrict 5D, you may take salmon once the mid-range of the Canadian interim management escapement goal and the total allowable catch goal are projected to be achieved.

(C) Salmon may be harvested by dip net at any time, except during times of conservation when the Federal in-season manager may announce restrictions on time, areas, and species.

(xiii) In District 4, if you are a commercial fisherman, you may not take salmon for subsistence purposes during the State commercial salmon fishing season using gillnets with stretched-mesh larger than 6 inches after a date specified by ADF&G emergency order issued between July 10 and July 31.

(xiv) In Districts 5 and 6, you may not take salmon for subsistence purposes by drift gillnets.

(xv) In District 4, salmon may be taken by drift gillnet not more than 150 feet in length unless restricted by special action or as modified by regulations in this section.

(xvi) Unless otherwise specified in this section, you may take fish other than salmon by set gillnet, drift gillnet, beach seine, fish wheel, long line, fyke net, dip net, jigging gear, spear, lead, or rod and reel, subject to the following restrictions, which also apply to subsistence salmon fishing:

(A) During the open weekly fishing periods of the State commercial salmon fishing season, if you are a commercial fisherman, you may not operate more than one type of gear at a time, for commercial, personal use, and subsistence purposes.

(B) You may not use an aggregate length of set gillnet in excess of 150 fathoms, and each drift gillnet may not exceed 50 fathoms in length.

(C) In Districts 4, 5, and 6, you may not set subsistence fishing gear within 200 feet of other fishing gear operating for commercial, personal, or subsistence use except that, at the site approximately 1 mile upstream from Ruby on the south bank of the Yukon River between ADF&G regulatory markers containing the area known locally as the “Slide,” you may set subsistence fishing gear within 200 feet of other operating commercial or subsistence fishing gear, and in District 4, from Old Paradise Village upstream to a point 4 miles upstream from Anvik, there is no minimum distance requirement between fish wheels.

(D) During the State commercial salmon fishing season, within the Yukon River and the Tanana River below the confluence of the Wood River, you may use drift gillnets and fish wheels only during open subsistence salmon fishing periods.

(E) In Birch Creek, gillnet mesh size may not exceed 3 inches stretch-measure from June 15 through September 15.

(F) In Racetrack Slough on the Koyukuk River and in the sloughs of the Huslia River drainage, from when each river is free of ice through June 15, the offshore end of the set gillnet may not be closer than 20 feet from the opposite bank except that sloughs 40 feet or less in width may have 3/4-width coverage with set gillnet, unless closed by Federal special action.

(G) In the Jim River drainage, including Prospect and Douglas Creeks, you may harvest fish other than salmon with rod and reel only; the grayling harvest and possession limit is 10 per day.

(xvii) In District 4, from September 21 through May 15, you may use jigging gear from shore ice.

(xviii) You must possess a subsistence fishing permit for the following locations:

(A) For the Yukon River drainage from the mouth of Hess Creek to the mouth of the Dall River;

(B) For the Yukon River drainage from the upstream mouth of 22 Mile Slough to the U.S.-Canada border;

(C) Only for salmon in the Tanana River drainage above the mouth of the Wood River.

(xix) Only one subsistence fishing permit will be issued to each household per year.

(xx) In Districts 1, 2, and 3, from June 1 through July 15, if ADF&G has announced that Chinook salmon can be sold in the commercial fisheries, you may not possess Chinook salmon taken for subsistence purposes unless both tips (lobes) of the tail fin have been removed before the person conceals the salmon from plain view or transfers the salmon from the fishing site.

(xxi) In the Yukon River drainage, Chinook salmon must be used primarily for human consumption and may not be targeted for dog food. Dried Chinook salmon may not be used for dog food anywhere in the Yukon River drainage. Whole fish unfit for human consumption (due to disease, deterioration, and deformities), scraps, and small fish (16 inches or less) may be fed to dogs. Also, whole Chinook salmon caught incidentally during a subsistence chum salmon fishery in the following time periods and locations may be fed to dogs:

(A) After July 10 in the Koyukuk River drainage;

(B) After August 10, in Subdistrict 5D, upstream of Circle City.

* * * * *

(6) Aleutian Islands Area. The Aleutian Islands Area includes all waters of Alaska west of the longitude of the tip of Cape Sarichef, east of 172° East longitude, and south of 54°36′ North latitude.

(i) You may take fish other than salmon, rainbow/steelhead trout, or char at any time unless restricted under the terms of a subsistence fishing permit. If you take rainbow/steelhead trout incidentally in other subsistence net fisheries, you may retain them for subsistence purposes.

(ii) In the Unalaska District, you may take salmon for subsistence purposes from 6 a.m. until 9 p.m. from January 1 through December 31, except as may be specified on a subsistence fishing permit.

(iii) In the Adak, Akutan, Atka-Amlia, and Umnak Districts, you may take salmon at any time.

(iv) You may not subsistence fish for salmon in the following waters:

(A) The waters of Unalaska Lake, its tributaries and outlet stream;

(B) The waters of Summers and Morris Lakes and their tributaries and outlet streams;

(C) All streams supporting anadromous fish runs that flow into Unalaska Bay south of a line from the northern tip of Cape Cheerful to the northern tip of Kalekta Point; and

(D) Waters of McLees Lake and its tributaries and outlet stream.

(v) You may take salmon by seine and gillnet, or with gear specified on a subsistence fishing permit.

(vi) In the Unalaska District, if you fish with a net, you must be physically present at the net at all times when the net is being used.

(vii) You may take fish other than salmon by gear listed in this part unless restricted under the terms of a subsistence fishing permit.

(viii) You may take salmon, trout, and char only under the terms of a subsistence fishing permit, except that you do not need a permit in the Akutan, Umnak, and Atka-Amlia Islands Districts.

(ix) You may take no more than 250 salmon for subsistence purposes unless otherwise specified on the subsistence fishing permit, except that in the Unalaska and Adak Districts, you may take no more than 25 salmon plus an additional 25 salmon for each member of your household listed on the permit. You may obtain an additional permit.

(x) You must keep a record on the reverse side of the permit of subsistence-caught fish. You must complete the record immediately upon taking subsistence-caught fish and must return it no later than October 31.

(7) Alaska Peninsula Area. The Alaska Peninsula Area includes all waters of Alaska on the north side of the Alaska peninsula southwest of a line from Cape Menshikof (57°28.34′ North latitude, 157°55.84′ West longitude) to Cape Newenham (58°39.00′ North latitude, 162° West longitude) and east of the longitude of Cape Sarichef Light (164°55.70′ West longitude) and on the south side of the Alaska Peninsula from a line extending from Scotch Cape through the easternmost tip of Ugamak Island to a line extending 135° southeast from Kupreanof Point (55°33.98′ North latitude, 159°35.88′ West longitude).

(i) You may take fish, other than salmon, rainbow/steelhead trout, or char, at any time unless restricted under the terms of a subsistence fishing permit. If you take rainbow/steelhead trout incidentally in other subsistence net fisheries or through the ice, you may retain them for subsistence purposes.

(ii) You may take salmon, trout, and char only under the authority of a subsistence fishing permit.

(iii) You must keep a record on the reverse side of the permit of subsistence-caught fish. You must complete the record immediately upon taking subsistence-caught fish and must return it no later than October 31.

(iv) You may take salmon at any time, except in those districts and sections open to commercial salmon fishing where salmon may not be taken during the 24 hours before and 12 hours following each State open weekly commercial salmon fishing period, or as may be specified on a subsistence fishing permit.

(v) You may take salmon by seine, gillnet, rod and reel, or with gear specified on a subsistence fishing permit. You may also take salmon without a permit by snagging (by handline or rod and reel), using a spear, bow and arrow, or capturing by bare hand.

(vi) You may take fish other than salmon by gear listed in this part unless restricted under the terms of a subsistence fishing permit.

(vii) You may not use a set gillnet exceeding 100 fathoms in length.

(viii) You may take no more than 250 salmon for subsistence purposes unless otherwise specified on your subsistence fishing permit.

* * * * *

(9) Kodiak Area. The Kodiak Area includes all waters of Alaska south of a line extending east from Cape Douglas (58°51.10′ North latitude), west of 150° West longitude, north of 55°30.00′ North latitude, and north and east of a line extending 135° southeast for 3 miles from a point near Kilokak Rocks at 57°10.34′ North latitude, 156°20.22′ West longitude (the longitude of the southern entrance of Imuya Bay), then due south.

(i) You may take fish other than salmon, rainbow/steelhead trout, char, bottomfish, or herring at any time unless restricted by the terms of a subsistence fishing permit. If you take rainbow/steelhead trout incidentally in other subsistence net fisheries, you may retain them for subsistence purposes.

(ii) You may take salmon for subsistence purposes 24 hours a day from January 1 through December 31, with the following exceptions:

(A) From June 1 through September 15, you may not use salmon seine vessels to take subsistence salmon for 24 hours before or during, and for 24 hours after, any State open commercial salmon fishing period. The use of skiffs from any type of vessel is allowed.

(B) From June 1 through September 15, you may use purse seine vessels to take salmon only with gillnets, and you may have no other type of salmon gear on board the vessel.

(iii) You may subsistence fish for salmon with rod and reel only in the following locations:

(A) Womens Bay—All waters inside a line from the tip of the Nyman Peninsula (57°43.23′ North latitude, 152°31.51′ West longitude), to the northeastern tip of Mary's Island (57°42.40′ North latitude, 152°32.00′ West longitude), to the southeastern shore of Womens Bay at 57°41.95′ North latitude, 152°31.50′ West longitude.

(1) King salmon: bag and possession limit of two fish; no size limit; no annual limit.

(2) Salmon, other than king salmon, that are:

(i) 20 inches or greater in length; bag and possession limit of five fish, of which only two may be coho salmon and only two may be sockeye salmon.

(ii) Less than 20 inches in length; bag and possession limit of 10 fish.

(iii) From September 16 through December 31, the bag and possession limit for coho salmon, 20 inches or greater in length, is one fish.

(B) Buskin River marine waters—All waters inside of a line running from a marker on the bluff north of the mouth of the Buskin River at approximately 57°45.80′ North latitude, 152°28.38′ West longitude, to a point offshore at 57°45.35′ North latitude, 152°28.15′ West longitude, to a marker located onshore south of the river mouth at approximately 57°45.15′ North latitude, 152°28.65′ West longitude.

(iv) You must have a subsistence fishing permit for taking salmon, trout, and char for subsistence purposes. You must have a subsistence fishing permit for taking herring and bottomfish for subsistence purposes during the State commercial herring sac roe season from April 15 through June 30.

(v) The annual limit for a subsistence salmon fishing permit holder is as follows:

(A) In the road-accessible Zone (Northeastern Kodiak Island), east of the line from Crag Point south to the westernmost point of Saltery Cove, including the inland waters of Spruce, Woody and Long Islands, and the Federal marine waters of and around Womens Bay, 25 salmon for the permit holder plus an additional 25 salmon for each member of the same household whose names are listed on the permit: an additional permit may be obtained upon request.

(B) In the remainder of the Kodiak Area not described in paragraphs (e)(9)(iii)(A) and (e)(9)(v)(A) of this section, there is no annual harvest limit for a subsistence salmon fishing permit holder.

(vi) You must record on your subsistence permit the number of subsistence fish taken. You must record all harvested fish prior to leaving the fishing site and must return the permit by the due date marked on the permit.

(vii) You may take fish other than salmon by gear listed in this part unless restricted under the terms of a subsistence fishing permit.

(viii) You may take salmon only by gillnet, rod and reel, or seine.

(ix) You must be physically present at the net when the net is being fished.

* * * * *

(13) Southeastern Alaska Area. The Southeastern Alaska Area includes all waters between a line projecting southwest from the westernmost tip of Cape Fairweather and Dixon Entrance.

(i) Unless restricted in this section or under the terms of a subsistence fishing permit, you may take fish other than salmon, trout, grayling, and char in the Southeastern Alaska Area at any time.

(ii) You must possess a subsistence fishing permit to take salmon, trout, grayling, or char. You must possess a subsistence fishing permit to take eulachon from any freshwater stream flowing into fishing District 1.

(iii) In the Southeastern Alaska Area, a rainbow trout is defined as a fish of the species Oncorhyncus mykiss less than 22 inches in overall length. A steelhead is defined as a rainbow trout with an overall length of 22 inches or larger.

(iv) In areas where use of rod and reel is allowed, you may use an artificial fly, lure, or bait when fishing with rod and reel, unless restricted by Federal permit. If you use bait, you must retain all federally regulated fish species caught, and they apply to your applicable daily, seasonal, and annual harvest limits for that species.

(A) For streams with steelhead, once your daily, seasonal, or annual limit of steelhead is harvested, you may no longer fish with bait for any species.

(B) Unless otherwise specified in this paragraph (e)(13), allowable gear for salmon or steelhead is restricted to gaffs, spears, gillnets, seines, dip nets, cast nets, handlines, or rod and reel.

(v) Unless otherwise specified in this paragraph (e)(13), you may use a handline for snagging salmon or steelhead.

(vi) You may fish with a rod and reel within 300 feet of a fish ladder unless the site is otherwise posted by the USDA Forest Service. You may not fish from, on, or in a fish ladder.

(vii) You may not accumulate Federal subsistence harvest limits authorized for the Southeastern Alaska Area with any harvest limits authorized under any State of Alaska fishery with the following exception: Annual or seasonal Federal subsistence harvest limits may be accumulated with State sport fishing harvest limits provided that accumulation of harvest limits does not occur during the same day.

(viii) If you take salmon, trout, or char incidentally with gear operated under terms of a subsistence permit for other salmon, they may be kept for subsistence purposes. You must report any salmon, trout, or char taken in this manner on your subsistence fishing permit.

(ix) Nets are prohibited in streams flowing across or adjacent to the roads on Wrangell and Mitkof Islands, and in streams flowing across or adjacent to the road systems connected to the community of Sitka.

(x) You may not possess subsistence-taken and sport-taken fish of a given species on the same day.

(xi) If a harvest limit is not otherwise listed for sockeye in this paragraph (e)(13), the harvest limit for sockeye salmon is the same as provided for in adjacent State subsistence or personal use fisheries. If a harvest limit is not established for the State subsistence or personal use fisheries, the possession limit is 10 sockeye and the annual harvest limit is 20 sockeye per household for that stream.

(xii) The Sarkar River system above the bridge is closed to the use of all nets by both federally qualified and non-federally qualified users.

(xiii) You may take Chinook, sockeye, and coho salmon in the mainstem of the Stikine River only under the authority of a Federal subsistence fishing permit. Each Stikine River permit will be issued to a household. Only dip nets, spears, gaffs, rod and reel, beach seine, or gillnets not exceeding 15 fathoms in length may be used. The maximum gillnet stretched mesh size is 8 inches during the Chinook salmon season and 5½ inches during the sockeye salmon season. There is no maximum mesh size during the coho salmon season.

(A) You may take Chinook salmon from May 15 through June 20. The annual limit is five Chinook salmon per household.

(B) You may take sockeye salmon from June 21 through July 31. The annual limit is 40 sockeye salmon per household.

(C) You may take coho salmon from August 1 through October 1. The annual limit is 20 coho salmon per household.

(D) You may retain other salmon taken incidentally by gear operated under terms of this permit. The incidentally taken salmon must be reported on your permit calendar.

(E) Fishing nets must be checked at least twice each day.

(xiv) You may take coho salmon with a Federal salmon fishing permit. There is no closed season. The daily harvest limit is 20 coho salmon per household. Only dip nets, spears, gaffs, handlines, and rod and reel may be used. There are specific rules to harvest any salmon on the Stikine River, and you must have a separate Stikine River subsistence salmon fishing permit to take salmon on the Stikine River.

(xv) Unless noted on a Federal subsistence harvest permit, there are no harvest limits for pink or chum salmon.

(xvi) Unless otherwise specified in this paragraph (e)(13), you may take steelhead under the terms of a subsistence fishing permit. The open season is January 1 through May 31. The daily household harvest and possession limit is one with an annual household limit of two. You may use only a dip net, gaff, handline, spear, or rod and reel. The permit conditions and systems to receive special protection will be determined by the local Federal fisheries manager in consultation with ADF&G.

(xvii) You may take steelhead trout on Prince of Wales and Kosciusko Islands under the terms of Federal subsistence fishing permits. You must obtain a separate permit for the winter and spring seasons.

(A) The winter season is December 1 through the last day of February, with a harvest limit of two fish per household; however, only one steelhead may be harvested by a household from a particular drainage. You may use only a dip net, handline, spear, or rod and reel. You must return your winter season permit within 15 days of the close of the season and before receiving another permit for a Prince of Wales/Kosciusko steelhead subsistence fishery. The permit conditions and systems to receive special protection will be determined by the local Federal fisheries manager in consultation with ADF&G.

(B) The spring season is March 1 through May 31, with a harvest limit of five fish per household; however, only two steelhead may be harvested by a household from a particular drainage. You may use only a dip net, handline, spear, or rod and reel. You must return your spring season permit within 15 days of the close of the season and before receiving another permit for a Prince of Wales/Kosciusko steelhead subsistence fishery. The permit conditions and systems to receive special protection will be determined by the local Federal fisheries manager in consultation with ADF&G.

(xviii) In addition to the requirement for a Federal subsistence fishing permit, the following restrictions for the harvest of Dolly Varden, brook trout, grayling, cutthroat trout, and rainbow trout apply:

(A) The daily household harvest and possession limit is 20 Dolly Varden; there is no closed season or size limit.

(B) The daily household harvest and possession limit is 20 brook trout; there is no closed season or size limit.

(C) The daily household harvest and possession limit is 20 grayling; there is no closed season or size limit.

(D) The daily household harvest limit is 6 and the household possession limit is 12 cutthroat or rainbow trout in combination; there is no closed season or size limit.

(E) You may use only a rod and reel.

(F) The permit conditions and systems to receive special protection will be determined by the local Federal fisheries manager in consultation with ADF&G.

(xix) The Klawock River drainage is closed to the use of seines and gillnets during July and August.

(xx) The Federal public waters in the Makhnati Island area, as defined in § __.3(b)(5) are closed to the harvest of herring and herring spawn, except by federally qualified users.

(xxi) Only federally qualified subsistence users may harvest sockeye salmon in Neva Lake, Neva Creek, and South Creek.

(xxii) The Federal public waters of Kah Sheets Creek are closed from July 1 to July 31, except by federally qualified users.

Amee Howard,
Acting Assistant Regional Director, U.S. Fish and Wildlife Service.
Gregory Risdahl,
Subsistence Program Leader, USDA-Forest Service.

[FR Doc. 2024-04056 Filed 2-28-24; 8:45 am]

BILLING CODE 4333-15-P; 3411-15-P